DEPARTMENT OF AGRICULTURE

Food and Nutrition Service

Emergency Food Assistance Program; Availability of Foods for Fiscal Year 2020

AGENCY: Food and Nutrition Service, USDA.

ACTION: Notice.

SUMMARY: This notice announces the surplus and purchased foods that the Department expects to make available for donation to States for use in providing nutrition assistance to the needy under The Emergency Food Assistance Program (TEFAP) in Fiscal Year (FY) 2020. The foods made available under this notice must, at the discretion of the State, be distributed to eligible recipient agencies (ERAs) for use in preparing meals and/or for distribution to households for home consumption.

FOR FURTHER INFORMATION CONTACT: Rachel Schoenian, Policy Branch, Food Distribution Division, Food and Nutrition Service, U.S. Department of Agriculture, 1320 Braddock Place, Alexandria, Virginia 22314 or telephone (703) 305-2937.

SUPPLEMENTARY INFORMATION: In accordance with the provisions set forth in the Emergency Food Assistance Act of 1983 (EFAA), 7 U.S.C. 7501, et seq., and the Food and Nutrition Act of 2008, 7 U.S.C. 2036, the Department makes foods available to States for use in providing nutrition assistance to those in need through TEFAP. In accordance with section 214 of the EFAA, 7 U.S.C. 7515, 60 percent of each State's share of TEFAP foods is based on the number of people with incomes below the poverty level within the State and 40 percent on the number of unemployed persons within the State. State officials are responsible for establishing the network through which the foods will be used by ERAs in providing nutrition assistance to those in need and for allocating foods among those ERAs. States have full discretion in determining the amount of foods that will be made available to ERAs for use in preparing meals and/or for distribution to households for home consumption. The types of foods the Department expects to make available to States for distribution through TEFAP in FY 2020 are listed in the table below.

Surplus Foods

Surplus foods donated for distribution under TEFAP are Commodity Credit Corporation (CCC) foods purchased under the authority of section 416 of the Agricultural Act of 1949, 7 U.S.C. 1431 (section 416) and foods purchased under the surplus removal authority of section 32 of the Act of August 24, 1935, 7 U.S.C. 612c (section 32). The types of foods typically purchased under section 416 include dairy, grains, oils, and peanut products. The types of foods purchased under section 32 include meat, poultry, fish, vegetables, dry beans, juices, and fruits.

In FY 2019 and FY 2020, the Department is using CCC authority in the CCC Charter Act of 1948, 15. U.S.C. 714, to implement a Food Purchase and Distribution Program (FPDP). The FPDP purchases surplus foods affected by trade retaliation for distribution through TEFAP and other federal nutrition programs.

Approximately $243.58 million in surplus and $305.15 million in FPDP foods acquired in FY 2019 are being delivered to States in FY 2020. Surplus foods include Alaska pollock, apricots, beans, cheese, cherries, chicken, eggs, orange juice, peaches, pears, plums, raisins, salmon, strawberries, and walnuts. FPDP foods include apples, beans, beef, butter, cheese, corn, grapes, hazelnuts, lentils, milk, oranges, peanut butter, pecans, pistachios, plums, pork, potatoes, raisins, and rice. Other surplus and FPDP foods may be made available to TEFAP throughout the year. The Department would like to point out that food acquisitions are based on changing agricultural market conditions; therefore, the availability of foods is subject to change.

Purchased Foods

In accordance with section 27 of the Food and Nutrition Act of 2008, 7 U.S.C. 2036, the Secretary is directed to purchase $317.5 million worth of foods in FY 2020 for distribution through TEFAP. These foods are made available to States in addition to those surplus and FPDP foods which otherwise might be provided to States for distribution under TEFAP.

For FY 2020, the Department anticipates purchasing the foods listed in the following table for distribution through TEFAP. The amounts of each item purchased will depend on the prices the Department must pay, as well as the quantity of each item requested by the States. Changes in agricultural market conditions may result in the availability of additional types of foods or the non-availability of one or more types listed in the table.

FY 2020 USDA Foods Available List for The Emergency Food Assistance Program (TEFAP)
FRUITS: | VEGETABLES:
Apples, Braeburn, Fresh | Beans, Green, Low-sodium, Canned.
Apples, Empire, Fresh | Carrots, Diced, No Salt Added, Frozen.
Apples, Fuji, Fresh | Carrots, Sliced, Low-sodium, Canned.
Apples, Gala, Fresh | Corn, Whole Kernel, No Salt Added, Canned.
Apples, Granny Smith, Fresh | Corn, Cream, Low sodium, Canned.
Apples, Red Delicious, Fresh | Mixed Vegetables, 7-Way Blend, Low-sodium, Canned.
Apples, Fresh | Peas, Green, Low-sodium, Canned.
Apple Juice, 100%, Unsweetened | Peas, Green, No Salt Added, Frozen.
Apple Slices, Unsweetened, Frozen (IQF) | Potatoes, Dehydrated Flakes.
Applesauce, Unsweetened, Canned | Potatoes, Round, Fresh.
Applesauce, Unsweetened, Cups, Shelf-Stable | Potatoes, Russet, Fresh.
Apricots, Halves, Extra Light Syrup, Canned | Potatoes, Sliced, Low-sodium, Canned.
Cherry Apple Juice, 100%, Unsweetened | Pumpkin, No Salt Added, Canned.
Cranberry Apple Juice, 100%, Unsweetened | Spaghetti Sauce, Low-sodium, Canned.
Cranberries, Dried, Individual Portion | Spinach, Low-sodium, Canned.
Grape Juice, Concord, 100%, Unsweetened | Tomato Juice, 100%, Low-sodium.
Grapefruit Juice, 100%, Unsweetened | Tomato Sauce, Low-sodium, Canned.
Fruit and Nut Mix, Dried | Tomato Sauce, Low-sodium, Canned (K) (H).
Mixed Fruit, Extra Light Syrup, Canned | Tomato Soup, Condensed, Low-sodium, Canned.
Oranges, Fresh | Tomatoes, Diced, No Salt Added, Canned.
Orange Juice, 100%, Unsweetened | Vegetable Soup, Condensed, Low-Sodium, Canned.
Peaches, Sliced, Extra Light Syrup, Canned | LEGUMES:
Pears, Bartlett, Fresh | Beans, Black, Low-sodium, Canned.
Pears, Bosc, Fresh | Beans, Black-eyed Pea, Low-sodium, Canned.
Pears, D'Anjou, Fresh | Beans, Black-eyed Pea, Dry.
Pears, Fresh | Beans, Garbanzo, Canned.
Pears, Extra Light Syrup, Canned | Beans, Great Northern, Dry.
Plums, Pitted, Dried | Beans, Kidney, Light Red, Low-sodium, Canned.
Raisins, Unsweetened, Individual Portion | Beans, Kidney, Light Red, Dry.
Raisins, Unsweetened | Beans, Lima, Baby, Dry.
PROTEIN FOODS: | Beans, Pinto, Low-sodium, Canned.
Alaska Pollock Fish, Whole Grain, Breaded Sticks, Frozen | Beans, Pinto, Dry.
Alaska Pollock Fish, Fillets, Frozen | Beans, Refried, Low-sodium, Canned.
Beef, Canned/Pouch | Beans, Vegetarian, Low-sodium, Canned.
Beef, Fine Ground, 85% Lean/15% Fat, Frozen | Lentils, Dry.
Beef, Fine Ground, 85% Lean/15% Fat, Frozen, LFTB OPT, Frozen
Beef Stew, Canned/Pouch | GRAINS:
Catfish, Fillets, Frozen | Bakery Mix, Lowfat.
Chicken, Pouch | Cereal, Corn Flakes.
Chicken, Split Breast, Frozen | Cereal, Corn/Rice Biscuits.
Chicken, Whole, Frozen | Cereal, Corn Squares.
Eggs, Fresh | Cereal, Oat Circles.
Egg Mix, Dried | Cereal, Rice Crisp.
Peanut Butter, Smooth | Cereal, Wheat Bran Flakes.
Peanut Butter, Smooth (K) | Cereal, Wheat Farina, Enriched.
Peanut Butter, Smooth, Individual Portion | Cereal, Wheat, Shredded.
Peanuts, Roasted, Unsalted | Crackers, Unsalted.
Pork, Canned/Pouch | Flour, All Purpose, Enriched, Bleached.
Pork, Ham, Frozen | Flour, White Whole Wheat.
Salmon, Pink, Canned | Grits, Corn, White.
Salmon, Pink, Canned (K) | Grits, Corn, Yellow.
Tuna, Chunk Light, Canned (K) | Oats, Rolled, Quick Cooking.
DAIRY: | Pasta, Egg Noodles.
Cheese, American, Reduced Fat, Loaves, Refrigerated | Pasta, Macaroni, Enriched.
Milk, 1%, Shelf-Stable UHT | Pasta, Macaroni, Whole Grain.
Milk, 1%, Individual Portion, Shelf-Stable UHT | Pasta, Macaroni and Cheese.
OILS: | Pasta, Rotini, Whole Grain.
Oil, Vegetable | Pasta, Spaghetti, Enriched.
OTHER: | Pasta, Spaghetti, Whole Grain.
Soup, Cream of Chicken, Reduced Sodium | Rice, Brown, Long-Grain, Parboiled.
Soup, Cream of Mushroom, Condensed, Reduced Sodium | Rice, Medium Grain.
| Rice, Long Grain.
| Tortillas, Whole Grain, Frozen.
KEY:
H—Halal Certification Required
K—Kosher Certification Required
IQF—Individually Quick Frozen
UHT—Ultra-High Temperature Pasteurization
LFTB OTP—Lean Finely Textured Beef Optional

Pamilyn Miller,
Administrator, Food and Nutrition Service.

[FR Doc. 2020-11249 Filed 5-22-20; 8:45 am]

BILLING CODE 3410-30-P